DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or the Assistant Director for Enforcement, Compliance and Analysis, tel.: 202-622-2490.

SUPPLEMENTARY INFORMATION:

Electronic Availability

The SDN List and additional information concerning OFAC sanctions programs are available on OFAC's website (https://www.treasury.gov/ofac).

Notice of OFAC Action[s]

On December 5, 2023, OFAC determined that the property and interests in property subject to U.S. jurisdiction of the following persons are blocked under the relevant sanctions authorities listed below.

Individuals

1. DE GEETERE, Tom (a.k.a. DE GEETERE, Tom Maria; a.k.a. DE GEETERE, Tom Maria Leonza Edward), Belgium; DOB 26 Feb 1964; nationality Belgium; Gender Male; Passport EH641188 (Belgium) expires 23 Aug 2014 (individual) [RUSSIA-EO14024] (Linked To: EUROPEAN TECHNICAL TRADING).

Designated pursuant to section 1(a)(iii)(C) of Executive Order 14024 of April 15, 2021, “Blocking Property With Respect To Specified Harmful Foreign Activities of the Government of the Russian Federation,” 86 FR 20249, 3 CFR, 2021 Comp., p. 542 (Apr. 15, 2021) (E.O. 14024), for being or having been a leader, official, senior executive officer, or member of the board of directors of EUROPEAN TECHNICAL TRADING, a person whose property and interests in property are blocked pursuant to E.O. 14024.

2. DE GEETERE, Hans (a.k.a. DE GEETERE, Hans Maria Christiane Herve; a.k.a. “DE GEETERE, Hmch”; a.k.a. “Dick Boss”), Paul Parmentierlaan 121, Knokke Heist 8300, Belgium; Nyckeesstraat 4, Knokke Heist 8300, Belgium; DOB 20 Jun 1962; POB Deinze, Belgium; nationality Belgium; Gender Male; Passport EN985009 (Belgium) expires 26 Jul 2023; National ID No. 592945001464 (Belgium) (individual) [RUSSIA-EO14024].

Designated pursuant to section 1(a)(i) of E.O. 14024 for operating or having operated in the defense and related materiel sector of the Russian Federation economy.

3. KULEMEKOV, Vladimir (a.k.a. KULEMEKOV, Vladimir Janovich), 64-1-215 Choroshevskoye Shosse, Moscow 123007, Russia; 9 2nd Verkhny Mikhailovsky Proezd, Building 2, Moscow 115007, Russia; DOB 26 Mar 1946; nationality Russia; Gender Male (individual) [RUSSIA-EO14024] (Linked To: DE GEETERE, Hans).

Designated pursuant to section 1(a)(vi)(B) of E.O. 14024 for having materially assisted, sponsored, or provided financial, material, or technological support for, or goods or services to or in support of, DE GEETERE, Hans, a person whose property and interests in property are blocked pursuant to E.O. 14024.

4. SKVORTSOV, Sergey (a.k.a. SKVORTSOV, Sergei Nikolaevich), Nacka, Sweden; DOB 28 Jul 1963; POB Perm, Russia; nationality Sweden; alt. nationality Russia; Gender Male; Passport 85338519 (Sweden) expires 30 Oct 2017 (individual) [RUSSIA-EO14024].

Designated pursuant to section 1(a)(i) of E.O. 14024 for operating or having operated in the defense and related materiel sector of the Russian Federation economy.

5. BEUN, Kimberley Catriona Lucinda, Eeklo, Belgium; DOB 21 May 1988; POB Oostburg, Netherlands; nationality Netherlands; Gender Female; Passport NUBF7PLH1 (Netherlands) expires 31 Oct 2024 (individual) [RUSSIA-EO14024] (Linked To: ERINER LIMITED).

Designated pursuant to section 1(a)(vii) of E.O. 14024 for having acted or purported to act for or on behalf of, directly or indirectly, ERINER LIMITED, a person whose property and interests in property are blocked pursuant to E.O. 14024.

Entities

1. HASA NEDERLAND B.V., Nieuwstraat 56 F, Sluis 4524 EG, Netherlands; 73/B Burgemeester Bosstraat, Rotterdam 3043 GC, Netherlands; Belgium; Target Type Private Company; Branch Unit Number 000009753184 (Netherlands); Enterprise Number 0877031240 (Belgium); Registration Number 32065154 (Netherlands) [RUSSIA-EO14024] (Linked To: THE MOTHER ARK LTD).

Designated pursuant to section 1(a)(vii) of E.O. 14024 for being owned or controlled by, or having acted or purported to act for or on behalf of, directly or indirectly, THE MOTHER ARK LTD, a person whose property and interests in property are blocked pursuant to E.O. 14024.

2. AHETEI LIMITED, Orthodoxou Tower, Floor 3, 44 Inomenon Ethnon, Larnaca 6042, Cyprus; Organization Established Date 28 Jan 2022; Target Type Private Company; Registration Number HE430579 (Cyprus) [RUSSIA-EO14024] (Linked To: LAR VORTO SERVICES LIMITED).

Designated pursuant to section 1(a)(vii) of E.O. 14024 for being owned or controlled by, or having acted or purported to act for or on behalf of, directly or indirectly, LAR VORTO SERVICES LIMITED, a person whose property and interests in property are blocked pursuant to E.O. 14024.

3. ERINER LIMITED, Orthodoxou Tower, Floor 3, 44 Inomenon Ethnon, Larnaca 6042, Cyprus; Kingsfordweg 321, 1043 GR Limassol, Cyprus; Organization Established Date 28 Jun 2021; Target Type Private Company; Business Registration Number HE423113 (Cyprus) [RUSSIA-EO14024] (Linked To: DE GEETERE, Hans).

Designated pursuant to section 1(a)(vii) of E.O. 14024 for being owned or controlled by, or having acted or purported to act for or on behalf of, directly or indirectly, DE GEETERE, Hans, a person whose property and interests in property are blocked pursuant to E.O. 14024.

4. EUROPEAN TECHNICAL TRADING (a.k.a. ETT DISTRIBUTION BV; a.k.a. EUROPEAN TT DISTRIBUTION; a.k.a. “ETT”), 24, Booiebos, Gent 9031, Belgium; 1, Ijsbeerlaan, Nevele 9850, Belgium; Target Type Private Company; Enterprise Number 0677.702.574 (Belgium) [RUSSIA-EO14024] (Linked To: DE GEETERE, Hans).

Designated pursuant to section 1(a)(vi)(B) of E.O. 14024 for having materially assisted, sponsored, or provided financial, material, or technological support for, or goods or services to or in support of, DE GEETERE, Hans, a person whose property and interests in property are blocked pursuant to E.O. 14024.

5. EUROPEAN TRADING TECHNOLOGY B.V., Nieuwstraat 56F, 4524 EG Sluis, Netherlands; Organization Established Date 04 Nov 2016; Target Type Private Company; Registration Number 67226205 (Netherlands) [RUSSIA-EO14024] (Linked To: DE GEETERE, Hans).

Designated pursuant to section 1(a)(vii) of E.O. 14024 for being owned or controlled by, or having acted or purported to act for or on behalf of, directly or indirectly, DE GEETERE, Hans, a person whose property and interests in property are blocked pursuant to E.O. 14024.

6. KNOKKE HEIST SUPPORT CORPORATION MANAGEMENT, Paul Parmentierlaan 121, Knokke-Heist 8300, Belgium; Nyckeesstraat 4, Knokke-Heist 8300, Belgium; Organization Established Date 13 Nov 2019; Target Type Private Company; Branch Unit Number 2299715293 (Belgium); Registration Number 0737640854 (Belgium) [RUSSIA-EO14024] (Linked To: DE GEETERE, Hans).

Designated pursuant to section 1(a)(vii) of E.O. 14024 for being owned or controlled by, or having acted or purported to act for or on behalf of, directly or indirectly, DE GEETERE, Hans, a person whose property and interests in property are blocked pursuant to E.O. 14024.

7. LAR VORTO SERVICES LIMITED, Orthodoxou Tower, Floor 3, 44 Inomenon Ethnon, Larnaca 6042, Cyprus; Organization Established Date 10 Nov 2015; Target Type Private Company; Business Registration Number HE348790 (Cyprus) [RUSSIA-EO14024] (Linked To: ERINER LIMITED).

Designated pursuant to section 1(a)(vi)(B) of E.O. 14024 for having materially assisted, sponsored, or provided financial, material, or technological support for, or goods or services to or in support of, ERINER LIMITED, a person whose property and interests in property are blocked pursuant to E.O. 14024.

8. M AND S TRADING (a.k.a. M AND S TRADING HK), Room 14F A, Success Industrial Building, No. 17 Sheung Hei St, San Po Kong, Kowloon, Hong Kong, China; Target Type Private Company; Registration Number 51875901000 (Hong Kong) [RUSSIA-EO14024] (Linked To: DE GEETERE, Hans).

Designated pursuant to section 1(a)(vi)(B) of E.O. 14024 for having materially assisted, sponsored, or provided financial, material, or technological support for, or goods or services to or in support of, DE GEETERE, Hans, a person whose property and interests in property are blocked pursuant to E.O. 14024.

9. THE MOTHER ARK LTD, Orthodoxou Tower, Floor 3, 44 Inomenon Ethnon, Larnaca 6042, Cyprus; Organization Established Date 13 Apr 2022; Target Type Private Company; Registration Number HE433232 (Cyprus) [RUSSIA-EO14024] (Linked To: DE GEETERE, Hans).

Designated pursuant to section 1(a)(vii) of E.O. 14024 for being owned or controlled by, or having acted or purported to act for or on behalf of, directly or indirectly, DE GEETERE, Hans, a person whose property and interests in property are blocked pursuant to E.O. 14024.

Dated: December 5, 2023.
Bradley T. Smith,
Director, Office of Foreign Assets Control, U.S. Department of the Treasury.

[FR Doc. 2023-27049 Filed 12-8-23; 8:45 am]

BILLING CODE 4810-AL-P